DEPARTMENT OF COMMERCE

National Oceanic and Atmospheric Administration

RIN 0648-XM33

Endangered and Threatened Species; Take of Anadromous Fish

AGENCY: National Marine Fisheries Service (NMFS), National Oceanic and Atmospheric Administration (NOAA), Commerce.

ACTION: Issuance of a scientific research permit.

SUMMARY: Notice is hereby given that NMFS has issued Permit 1075 Modification 1 to the Eel River Salmon Restoration Project (ERSRP) in Miranda, California.

ADDRESSES: The application, permit, and related documents are available for review by appointment at: Protected Resources Division, NMFS, 1655 Heindon Road, Arcata, CA 95521 (ph: 707-825-5185, fax: 707-825-4840, e-mail at: diane.ashton@noaa.gov

FOR FURTHER INFORMATION CONTACT: Diane Ashton at 707-825-5185, or e-mail: diane.ashton@noaa.gov.

SUPPLEMENTARY INFORMATION:

Authority

The issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally threatened Southern Oregon/Northern California Coast coho salmon (Oncorhynchus kisutch), threatened California Coastal Chinook salmon (O. tshawytscha), and threatened Northern California steelhead (O. mykiss)

Permit Issued

A notice of the receipt of an application for a scientific research permit (1075 Modification 2) was published in the Federal Register on October 25, 2006 (71 FR 6241). Subsequent to the publication of 71 FR 6241, NMFS determined that Permit 1075 Modification 2 is, in fact, Modification 1. Permit 1075 Modification 1 was issued to ERSRP on December 8, 2008.

Permit 1075 Modification 1 authorizes ERSRP to capture (by fyke-net trap), mark (using fin clips), and release juvenile Southern Oregon/Northern California Coast coho salmon, California Coastal Chinook salmon, and Northern California steelhead. Permit 1075 Modification 1 also authorizes ERSRP to capture (by weir-trap), and release adult Southern Oregon/Northern California Coast coho salmon, California Coastal Chinook, and Northern California steelhead.

Permit 1075 Modification 1 authorizes unintentional lethal take of juvenile Southern Oregon/Northern California Coast coho salmon, California Coastal Chinook salmon, and Northern California steelhead.to exceed 1.5 percent of fish captured. Permit 1075 Modification 1 authorizes (1) unintentional lethal take of adult Southern Oregon/Northern California Coast coho salmon and Northern California steelhead not to exceed 2 percent of fish captured; and (2) unintentional lethal take of adult California Coastal Chinook salmon not to exceed 1 percent of fish captured.

Permit 1075 Modification 1 is for research to be conducted in Redwood Creek and two tributaries of Sproul Creek, all of which are tributaries to the South Fork Eel River, Humboldt County, California. The purpose of the research is to address information needs identified by NMFS to monitor adult and juvenile salmonid populations in the South Fork Eel River. Permit 1075 Modification 1 expires on December 1, 2018.

Dated: December 30, 2008.
Therese Conant,
Deputy Chief, Endangered Species Division, Office of Protected Resources, National Marine Fisheries Service.

[FR Doc. E8-31342 Filed 1-2-09; 8:45 am]

BILLING CODE 3510-22-S